DEPARTMENT OF DEFENSE

Defense Acquisition Regulations System

48 CFR Parts 204 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective: May 22, 2013.

FOR FURTHER INFORMATION CONTACT: Mr. Manuel Quinones, Defense Acquisition Regulations System, OUSD(AT&L)DPAP(DARS), Room 3B855, 3060 Defense Pentagon, Washington, DC 20301-3060. Telephone 571-372-6088; facsimile 571-372-6094.

SUPPLEMENTARY INFORMATION: This final rule amends the DFARS to correct typographical error at 204.1105 and to correct the clause date at 252.204-7004, 252.204-7007, 252.232-7006, 252.232-7011, and 252.245-7004.

List of Subjects in 48 CFR Parts 204 and 252

Government procurement.

Manuel Quinones,
Editor, Defense Acquisition Regulations System.

Therefore, 48 CFR parts 252 is amended as follows:

1. The authority citation for 48 CFR parts 204 and 252 continues to read as follows:

Authority: 41 U.S.C. 1303 and 48 CFR chapter 1.

PART 204—ADMINISTRATIVE MATTERS

204.1105 [Amended]

2. Amend section 204.1105 by removing the word “clause” and adding the word “provision” in its place.

PART 252—SOLICITATION PROVISIONS AND CONTRACT CLAUSES

252.204-7004 [Amended]

3. Section 252.204-7004 is amended by removing from the clause heading “(DATE)” and adding “(MAY 2013)” in its place.

252.204-7007 [Amended]

4. Section 252.204-7007 is amended by removing “(DATE)” and adding “(MAY 2013)” in its place.

252.232-7006 [Amended]

5. Section 252.232-7006 is amended by removing “(DATE)” and adding “(MAY 2013)” in its place.

252.232-7011 [Amended]

6. Section 252.232-7011 is amended by removing “(DATE)” and adding “(MAY 2013)” in its place.

252.245-7004 [Amended]

7. Section 252.245-7004 is amended by removing “(DATE)” and adding “(MAY 2013)” in its place.

[FR Doc. 2013-12205 Filed 5-21-13; 8:45 am]

BILLING CODE 5001-06-P